NUCLEAR REGULATORY COMMISSION

[Docket No. NRC-2013-0221]

Agency Information Collection Activities: Proposed Collection; Comment Request

AGENCY: Nuclear Regulatory Commission.

ACTION: Notice of pending NRC action to submit an information collection request to the Office of Management and Budget (OMB) and solicitation of public comment.

SUMMARY: The U. S. Nuclear Regulatory Commission (NRC) invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: 10 CFR Part 35, “Medical Use of Byproduct Material.”

2. Current OMB approval number: 3150-0010.

3. How often the collection is required: Reports of medical events, doses to an embryo/fetus or nursing child, or leaking sources are reportable on occurrence. A specialty board certification entity desiring to be recognized by the NRC must submit a one-time request for recognition and infrequently revise the information.

4. Who is required or asked to report: Physicians and medical institutions holding an NRC license authorizing the administration of byproduct material or radiation from this material to humans for medical use. A specialty board certification entity desiring to have its certifying process and board certificate recognized by the NRC.

5. The number of annual respondents: 7,654 (1,034 for NRC Licenses, 6,618 for Agreement States, and 2 for specialty board certification entities).

6. The number of hours needed annually to complete the requirement or request: 1,057,669 hours (142,892 for NRC Licenses and 914,775 for Agreement States + 2 for specialty board certification entities).

7. Abstract: 10 CFR Part 35, “Medical Use of Byproduct Material,” contains NRC's requirements and provisions for the medical use of byproduct material and for issuance of specific licenses authorizing the medical use of this material. These requirements and provisions provide for the radiation safety of workers, the general public, patients, and human research subjects. Part 35 contains mandatory requirements that apply to NRC licensees authorized to administer byproduct material or radiation there from to humans for medical use. These requirements also provide voluntary provisions for specialty boards to apply to have their certification processes recognized by NRC so that their board certified individuals can use the certifications as proof of training and experience.

The information in the required reports and records is used by the NRC to ensure that public health and safety is protected, and that the possession and use of byproduct material is in compliance with the license and regulatory requirements.

Submit, by January 7, 2014, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly available documents, including the draft supporting statement, at the NRC's Public Document Room, One White Flint North, Room O-1 F21, 11555 Rockville Pike, Rockville, Maryland 20852. The OMB clearance requests are available at the NRC worldwide Web site: http://www.nrc.gov/public-involve/doc-comment/omb/index.html.

The document will be available on the NRC home page site for 60 days after the signature date of this notice. Comments submitted in writing or in electronic form will be made available for public inspection. Because your comments will not be edited to remove any identifying or contact information, the NRC cautions you against including any information in your submission that you do not want to be publicly disclosed. Comments submitted should reference Docket No. NRC-2013-0221. You may submit your comments by any of the following methods. Electronic comments: Go to http://www.regulations.gov and search for Docket No. NRC-2013-0221. Mail comments to NRC Clearance Officer, Tremaine Donnell (T-5 F53), U.S. Nuclear Regulatory Commission, Washington, DC 20555-0001.

Questions about the information collection requirements may be directed to the NRC Clearance Officer, Tremaine Donnell (T-5 F53), U.S. Nuclear Regulatory Commission, Washington, DC 20555-0001, by telephone at 301-415-6258, or by email to INFOCOLLECTS.Resource@NRC.GOV.

Dated at Rockville, Maryland, this 4th day of November 2013.
For the Nuclear Regulatory Commission.
Tremaine Donnell,
NRC Clearance Officer, Office of Information Services.

[FR Doc. 2013-26857 Filed 11-7-13; 8:45 am]

BILLING CODE 7590-01-P